DEPARTMENT OF HOMELAND SECURITY

[Docket No. DHS-2018-0042]

Next Generation First Responder (NGFR)

AGENCY: Science and Technology Directorate, Department of Homeland Security.

ACTION: 60-Day notice of information collection; new request for comment.

SUMMARY: The Department of Homeland Security (DHS), Science and Technology Directorate (S&T) Next Generation First Responder (NGFR) program seeks to develop and integrate next-generation technologies by testing and evaluating first responder technologies during integration demonstration events. During these events, first responder participants use prototype technologies in a fictional scenario—such as a missing person case, an active shooter event, or a chemical spill—and are asked to share their feedback on how the technology worked in the context of their emergency response to the scenario, including whether the technologies made them more effective, efficient or safe.

The information collected during these events will help provide insight about how to improve technologies for first responders and will help DHS define whether or not the event was successful. Additionally, the feedback and evaluation DHS receives will be used in knowledge products that will then be distributed to other state and local first responder organizations.

DATES: Comments are encouraged and accepted until January 14, 2019.

ADDRESSES: You may submit comments, identified by docket number DHS-2018-0042, at:

• Federal eRulemaking Portal: http://www.regulations.gov. Please follow the instructions for submitting comments.

• Mail and hand delivery or commercial delivery: Science and Technology Directorate, ATTN: Chief Information Office—Mary Cantey, 245 Murray Drive, Mail Stop 0202, Washington, DC 20528.

Instructions: All submissions received must include the agency name and docket number DHS-2018-0042. All comments received will be posted without change to http://www.regulations.gov, including any personal information provided. Please note that comments submitted by fax or email and those submitted after the comment period will not be accepted.

Docket: For access to the docket to read background documents or comments received, go to http://www.regulations.gov.

FOR FURTHER INFORMATION CONTACT: DHS/S&T/NGFR Program Manager: Sridhar Kowdley, Sridhar.kowdley@hq.dhs.gov or 202-254-8804 (Not a toll free number).

SUPPLEMENTARY INFORMATION: DHS, in accordance with the Paperwork Reduction Act (PRA), 44 U.S.C. 3501 et seq., provides the general public and Federal agencies with an opportunity to comment on proposed, revised, and continuing collections of information. DHS is soliciting comments on the proposed information collection request (ICR) that is described below. DHS is especially interested in public comments addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology? Please note that written comments received in response to this notice will be considered public records.

Title of Collection: Next Generation First Responder Technology Evaluation Survey.

Type of Review: New.

Respondents/Affected Public: Law Enforcement, Firefighters.

Frequency of Collection: Quarterly.

Average Burden per Response: 15 minutes.

Total Estimated Number of Annual Responses: 900.

Total Estimated Number of Annual Burden Hours: 225.

Gregg Piermarini,
Chief Technology Officer/Deputy CIO, Science and Technology Directorate.

[FR Doc. 2018-24707 Filed 11-9-18; 8:45 am]

BILLING CODE 9110-9F-P